DEPARTMENT OF HEALTH AND HUMAN SERVICES

National Institutes of Health

Center for Scientific Review; Amended Notice of Meeting

Notice is hereby given of a change in the meeting of the Clinical Neuroscience and Neurodegeneration Study Section, October 10, 2013, 08:00 a.m. to October 10, 2013, 06:00 p.m., National Institutes of Health, 6701 Rockledge Drive, Bethesda, MD 20892 which was published in the Federal Register on September 12, 2013, 78 FR 177 Pg. 56239.

The meeting will start on December 13, 2013 at 9:00 a.m. and end December 13, 2013 at 6:00 p.m. The meeting location remains the same. The meeting is closed to the public.

Dated: October 25, 2013.
Anna Snouffer,
Deputy Director, Office of Federal Advisory Committee Policy.

[FR Doc. 2013-25767 Filed 10-29-13; 8:45 am]

BILLING CODE 4140-01-P